DEPARTMENT OF THE INTERIOR

National Park Service

Extension of Expiring Concession Contracts Up to One Year

AGENCY: National Park Service, Interior.

ACTION: Public Notice, Extension of Expiring Concession Contracts Up to One Year.

SUMMARY: Pursuant to 36 CFR 51.23, public notice is hereby given that the national Park Service proposes to extend the following expiring concession contracts for a period of up to one year.

Concessioner Identification No. | Concessioner name | Park
BRCA001 | Bryce Canyon Natural History Association | Bryce Canyon National Park
CHAM001 | My Other Squeeze | Chamizal National Monument
CHAM003 | Triple “L” Rolling Restaurant | Chamizal National Monument
CHAM004 | Donut Factory | Chamizal National Monument
CHAM005 | Party Time Ice Cream | Chamizal National Monument
CHAM006 | Senor Elote | Chamizal National Monument
CHAM007 | Coronado Prime Meats | Chamizal National Monument
CHAM008 | Mama's Papas | Chamizal National Monument
FOLA001 | Fort Laramie Historical Association | Fort Laramie National Historic Site
MEVE001 | Aramark Mesa Verde Company | Mesa Verde National Park
ZION004 | Zion Natural History Association | Zion National Park

EFFECTIVE DATE: October 31, 2001.

FOR FURTHER INFORMATION CONTACT: Cynthia Orlando, Concession Program Manager, National Park Service, Washington, DC, 20240, Telephone (202) 565-1210.

SUPPLEMENTARY INFORMATION: All of the listed concession authorizations will expire by their terms on or before September 30, 2001. The National Park Service has determined that the proposed short-term extensions are necessary in order to avoid interruption of visitor services and has taken all reasonable and appropriate steps to consider alternatives to avoid such interruption. These extensions will allow the National Park Service to complete and issue prospectuses leading to the competitive selection of concessioners for new longer-term concession contracts covering these operations.

Dated: May 2, 2001.
Dale Wilking,
Acting Associate Director, Park Operations and Education.

[FR Doc. 01-24523 Filed 9-28-01; 8:45 am]

BILLING CODE 4312-70-M